DEPARTMENT OF AGRICULTURE

Forest Service

Allegheny National Forest, PA; Reserved and Outstanding Oil and Gas Design Criteria

AGENCY: Forest Service, USDA.

ACTION: Notice of intent to prepare a supplemental environmental impact statement.

SUMMARY: The Allegheny National Forest proposes to apply design criteria included in the Allegheny National Forest Land and Resource Management Plan (Forest Plan), issued in March 2007 to reserved and outstanding oil and gas development on the Forest. The 2007 Forest Plan proposed design criteria are identified on pages 53 through 168. This proposal responds to instructions in the February 15, 2008 decision by the Chief of the Forest Service on appeals of the Allegheny National Forest Revised Land and Resource Management Plan. A Supplement to the Forest Plan Environmental Impact Statement (SEIS) will be prepared for this proposal.

DATES: Comments concerning the proposed action must be received by March 26, 2009. The draft SEIS is expected in May 2009 and the final SEIS is expected in September 2009.

ADDRESSES: Send written comments to Lois DeMarco, Allegheny National Forest, 4 Farm Colony Dr., Warren, PA 16365. Comments may also be sent via e-mail to comments-eastern-allegheny@fs.fed.us, or via facsimile to 814-726-1465. Comments sent via e-mail should use the subject line “Reserved and Outstanding Oil and Gas Design Criteria SEIS.”

Comments received in response to this solicitation, including names and addresses of those who comment, will become part of the public record for this proposed action. Comments submitted anonymously will be accepted and considered; however, anonymous comments may limit the respondent's ability to participate in subsequent administrative review or judicial review.

FOR FURTHER INFORMATION CONTACT: Lois DeMarco, Allegheny National Forest, 4 Farm Colony Dr., Warren, PA 16365; 814-728-6179 or ldemarco@fs.fed.us.

Individuals who use telecommunication devices for the deaf (TDD) may call the Federal Information Relay Service (FIRS) at 1-800-877-8339 between 8 a.m. and 8 p.m., Eastern Time, Monday through Friday.

SUPPLEMENTARY INFORMATION: The Allegheny National Forest consists largely of land acquired from the private sector via purchase or donation. At the time of acquisition, ownership of oil and gas resources had often been conveyed to other private parties (“outstanding rights”), or reserved by the private seller or donor (“reserved rights”). As a result, ninety-three percent of the Forest is subject to outstanding or reserved oil and gas rights.

When the Forest Plan was revised in 2007, concerns about the environmental effects of reserved and outstanding oil and gas development resulted in revision of the design criteria (also called standards and guidelines) applied to such oil and gas development. The draft Forest Plan included specific design criteria applicable to reserved and outstanding oil and gas development. The final Forest Plan substantially modified these design criteria, and for the first time, explicitly applied all design criteria to reserved and outstanding oil and gas development.

The 2007 Forest Plan was administratively appealed, with the result that the Chief of the Forest Service directed the Regional Forester for the Forest Service Eastern Region to provide for public notice and comment on the application of design criteria to reserved and outstanding oil and gas development, and changes in Section 2800 of the 2007 Forest Plan. In the interim, standards and guidelines from the previous Forest Plan (1986) are applied to reserved and outstanding oil and gas development.

In the appeal decision, the Chief also instructed the Regional Forester to clarify the Allegheny National Forest's authority to manage oil and gas activities, and to more fully document the cumulative effects of oil and gas development on air quality.

The Forest Service continues to believe that the final 2007 Forest Plan better protects, enhances and restores ecosystems than the 1986 Forest Plan, and proposes to apply the design criteria described on pages 53 through 168 of the 2007 Forest Plan.

Purpose and Need for Action

The Chief's decision on appeals of the 2007 Forest Plan creates the following needs to take action at this time:

1. There is a need to provide public notice and an opportunity for comment on application of the design criteria defined on pages 53 through 168 of the 2007 Forest Plan to reserved and outstanding oil and gas development.

2. There is a need to better describe the Allegheny National Forest's legal authority to determine the reasonable use of surface resources when reserved and outstanding oil and gas rights are exercised, and to incorporate clear language that defines the roles and responsibilities of the Forest Service, Commonwealth of Pennsylvania and private mineral owners in the SEIS, 2007 Forest Plan and Record of Decision. There is also a need to distinguish between reserved an outstanding rights and how the management of these distinct mineral estates may vary depending upon language in individual deeds or the Secretary of Agriculture's rules and regulations.

3. There is a need to evaluate and disclose potential cumulative effects from emissions of methane, hydrogen sulfide, and emissions from vehicles and equipment used in oil and gas development on Allegheny National Forest and regional air quality.

Proposed Action

In response to the Chief's three instructions, the Regional Forester for the Forest Service Eastern Region proposes to:

1. Apply the design criteria found on pages 53 through 168 of the 2007 Forest Plan to reserved and outstanding oil and gas development;

2. Clarify the roles and responsibilies held by the Forest Service, the Commonwealth of Pennsylvania, and private mineral owners in regard to the protection of surface resources during the development of reserved and outstanding oil and gas, by replacing applicable sections in the Record of Decision, the 2007 Forest Plan, the Final Environmental Impact Statement, and Appendix F; and

3. Supplement the Air Resources—Section 3.2.4 in the Final Environmental Impact Statement (pp. 3-52 to 3-63) to fully evaluate the potential cumulative effects from emissions of methane, hydrogen sulfide, and emissions from vehicles and equipment used in oil and gas development on air quality in the Allegheny National Forest and surrounding region.

Possible Alternatives

No specific alternatives have been identified; however, alternative design criteria may be appropriate. Continued application of the 1986 Forest Plan standards and guidelines for reserved and outstanding oil and gas development will serve as the no action alternative. The alternative of denying reasonable and necessary access to reserved and outstanding minerals will not be considered in detail, as the Forest Service lacks the legal authority to do so without engaging in a taking of private property.

Lead and Cooperating Agencies

The lead agency for this proposal is the USDA-Forest Service. The U.S. Fish and Wildlife Service and Bureau of Land Management will be invited to become cooperating agencies for this proposal.

Responsible Official

The official responsible for the decision is the Regional Forester for the Eastern Region of the Forest Service.

Nature of Decision To Be Made

The decision to be made by the Regional Forester concerns the application of design criteria to the exercise of reserved and outstanding minerals rights, to ensure reasonable and necessary access while adequately protecting, enhancing and restoring ecosystems.

Preliminary Issues

Issues are expected to include concerns related to the ability of various design criteria to protect surface resources including water, air, and wildlife.

Permits or Licenses Required

The Forest Service is not required to obtain any permits or licenses in order to implement this proposal.

Scoping Process

This Notice of Intent initiates the scoping process, which guides the development of the SEIS. Other information used in determining the scope of actions, alternatives and effects to be analyzed includes the public involvement process for the 2007 Forest Plan, appeal resolution processes related to the 2007 Forest Plan, and the decision of the Chief of the Forest Service on the appeals of the 2007 Forest Plan.

Comments received on this notice will be used to identify design criteria for surface management that are effective and appropriate. Comments that point to disagreements over the environmental effects of the proposed action will be used to further develop issues that will be analyzed in the SEIS.

It is important that reviewers provide their comments at such times and in such manner that they are useful to the agency's preparation of the SEIS. Therefore, comments should be provided prior to the close of the comment period and should clearly articulate the reviewer's concerns and contentions. The submission of timely and specific comments may affect a reviewer's ability to participate in subsequent administrative review or judicial review.

Dated: February 17, 2009.
Leanne M. Marten,
Forest Supervisor.

[FR Doc. E9-3862 Filed 2-23-09; 8:45 am]

BILLING CODE 3410-11-P